DEPARTMENT OF HOMELAND SECURITY

8 CFR Part 214

Nonimmigrant Classes

CFR Correction

In Title 8 of the Code of Federal Regulations, revised as of January 1, 2012, in § 214.2, make the following corrections:

a. On page 289, reinstate paragraph (h)(2)(v);

b. On page 310, following paragraph (h)(9)(i)(B), reinstate paragraphs (h)(9)(ii)(A) and (B); and

c. On page 311, revise the third sentence of paragraph (h)(11)(i)(A).

§ 214.2 Special requirements for admission, extension, and maintenance of status.

* * * * *

(h) * * *

(2) * * *

(v) H-2A Petitions. Special criteria for admission, extension, and maintenance of status apply to H-2A petitions and are specified in paragraph (h)(5) of this section. The other provisions of § 214.2(h) apply to H-2A only to the extent that they do not conflict with the special agricultural provisions in paragraph (h)(5) of this section.

* * * * *

(9) * * *

* * * * *

(ii) Recording the validity of petitions. Procedures for recording the validity period of petitions are:

(A) If a new H petition is approved before the date the petitioner indicates that the services or training will begin, the approved petition and approval notice shall show the actual dates requested by the petitoner as the validity period, not to exceed the limits specified by paragraph (h)(9)(iii) of this section or other Service policy.

(B) If a new H petition is approved after the date the petitioner indicates that the services or training will begin, the aproved petition and approval notice shall show a validity period commencing with the date of approval and ending with the date requested by the petitioner, as long as that date does not exceed either the limits specified by paragraph (h)(9)(iii) of this section or other Service policy.

* * * * *

(11) * * *

(i) * * *

(A) * * * If the petitioner no longer employs the beneficiary, the petitioner shall send a letter explaining the change(s) to the director who approved the petition. * * *

* * * * *

[FR Doc. 2012-31272 Filed 12-27-12; 8:45 am]

BILLING CODE 1505-01-D